DEPARTMENT OF ENERGY

Federal Energy Regulatory Commission

[Docket No. RP04-409-000]

Pogo Producing Company; Notice Scheduling Convening Session

July 27, 2004.

By order issued July 26, 2004, in the above-captioned docket, the Commission directed its Dispute Resolution Service to convene a meeting with the parties no later than Wednesday, July 28, 2004. During the convening session, the DRS Representative will pursue the selection of an ADR process to address the issues raised by Pogo Producing Company's filing on July 26, 2004. The DRS contemplates that the process selected would commence on Thursday afternoon at 2 c.s.t, July 29, or Friday morning 9 c.s.t., July 30. The ADR process would be held, tentatively, in Houston, Texas. The location will be announced as soon as it is known.

The Convening Session will be held by a telephone conference call on Wednesday July 28, for all interested parties at 1 p.m. central time (2 p.m. eastern time). The dial-in instructions are:

When: Wednesday, July 28, at 1 p.m. central time (2 p.m. eastern time).

Dial-In # 1-888-560-7328.

Passcode: 994508 (enter # after number, and announce name on entry).

If you have any questions regarding this matter, please call Richard Miles at 202-502-8702 or Jeri Purdy at 202-502-8671.

Magalie R. Salas,
Secretary.

[FR Doc. E4-1704 Filed 8-2-04; 8:45 am]

BILLING CODE 6717-01-P